DEPARTMENT OF THE INTERIOR

Bureau of Indian Affairs

Indian Gaming

AGENCY: Bureau of Indian Affairs, Interior.

ACTION: Notice of Approved Tribal—State Class III Gaming Compact.

SUMMARY: This notice publishes an Approval of the Gaming Compact between the Confederated Tribes of the Warm Springs Reservation of Oregon and the State of Oregon.

DATES: Effective Date: October 20, 2011.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2710, the Secretary of the Interior shall publish in the Federal Register notice of approved Tribal—State compacts for the purpose of engaging in Class III gaming activities on Indian lands. This Compact amends the 2005 Amended and Restated Tribal-State Government-to-Government Compact for Regulation of Class III Gaming on the Warm Springs Reservation (“2005 Compact” or “Kah-Nee-Ta compact”), approved on May 20, 2005. The following is a list of the changes:

1. Addresses relocation of Class Gaming on the Reservation from the Tribe's Kah-Nee-Ta Resort facility to a temporary facility on U.S. Highway 26 in the Warm Springs community. See Section 3.M. (definitions) and Section 4.C. (gaming location).

2. Increases the number of approved VLT's from 400 to 700. See, Section 4.D. The compact also deletes the “one player at a time” provision of the definition of “Video Lottery Terminal,” thereby allowing for multi-player VLT's. Section 3EE. The compact also provides a methodology for counting multi-player VLT's. Section 4D.

3. Adds disclaimer regarding any impact of the 2011 Amended and Restated Compact on the Cascade Locks casino “two-part” determination. See Section 4.C.3.

4. Revises “Health and Safety Standards” section to be consistent with Cascade Locks compact (dated November 2010) and other Oregon compacts. See Section 12.A.

5. Revises “Traffic Standards” section providing for access improvements and consultations with Oregon Department of Transportation. See Section 12.B.

6. Revises and updates regulatory provisions to be consistent with Cascade Locks compact and other current Oregon compacts. See Section 7, 8, 9, 10 and 11.

Dated: October 14, 2011.
Larry Echo Hawk,
Assistant Secretary—Indian Affairs.

[FR Doc. 2011-27233 Filed 10-19-11; 8:45 am]

BILLING CODE 4310-4N-P